DEPARTMENT OF AGRICULTURE

Animal and Plant Health Inspection Service

[Docket No. APHIS-2023-0079]

Spotted Lanternfly Cooperative Control Program; Availability of a Programmatic Environmental Assessment

AGENCY: Animal and Plant Health Inspection Service, USDA.

ACTION: Notice of availability and request for comments.

SUMMARY: We are advising the public that the Animal and Plant Health Inspection Service has prepared a programmatic environmental assessment relative to the Spotted Lanternfly Cooperative Control Program in the conterminous United States. The environmental assessment documents our review and analysis of environmental impacts associated with the Spotted Lanternfly Cooperative Control Program. We are making the programmatic environmental assessment available to the public for review and comment.

DATES: We will consider all comments that we receive on or before December 11, 2023.

ADDRESSES: You may submit comments by either of the following methods:

• Federal eRulemaking Portal: Go to www.regulations.gov. Enter APHIS-2023-0079 in the Search field. Select the Documents tab, then select the Comment button in the list of documents.

• Postal Mail/Commercial Delivery: Send your comment to Docket No. APHIS-2023-0079, Regulatory Analysis and Development, PPD, APHIS, Station 3A-03.8, 4700 River Road Unit 118, Riverdale, MD 20737-1238.

Supporting documents and any comments we receive on this docket may be viewed at regulations.gov or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Mr. Matthew Travis, Spotted Lanternfly National Policy Manager, PPQ, APHIS, Emergency and Domestic Programs, 4700 River Road Unit 133, Riverdale, MD 20737-1238; email: Matthew.A.Travis@usda.gov.

SUPPLEMENTARY INFORMATION: The spotted lanternfly (SLF), Lycorma delicatula, an invasive species native to Asia, is a destructive pest that in large numbers can cause significant damage to critical habitat and economically important plants. The U.S. Department of Agriculture, Animal and Plant Health Inspection Service (APHIS) is proposing to control SLF, to slow the spread of this invasive insect in the conterminous United States, wherever outbreaks are detected.

SLF was first detected in the United States in 2014 in Pennsylvania. In 2015, APHIS implemented SLF control activities to respond to this new pest threat. Later, in 2019, APHIS started an official SLF program. SLF is a significant economic and lifestyle pest for residents, businesses, tourism, forestry, and agriculture.

SLF infestation has led to crop loss, agriculture exportation problems, and increased management costs. APHIS is concerned by the potential for long-distance movement of SLF within the United States, and by the continued risk of SLF introduction from other countries. The environmental and socioeconomic damage to SLF-affected regions can be substantial. For context, grape vineyards in South Korea and the United States appear to be particularly affected, jeopardizing an industry worth billions of dollars. One vineyard in the United States reportedly faced a crop yield loss of up to 90 percent. An uncontained SLF infestation could drain Pennsylvania's economy of at least $324 million annually.

While SLF has not yet been found in western United States, it has been intercepted in airplanes arriving from the eastern United States. Suitable conditions for SLF establishment exist in large regions of the United States, giving the insect the potential to damage valuable host crops, forests, and critical habitat for listed species. APHIS' review and analysis of potential environmental impacts associated with the Spotted Lanternfly Cooperative Control Program are documented in a programmatic environmental assessment (ProEA) titled “Spotted Lanternfly Cooperative Control Program for the Conterminous United States” (June 2023). The ProEA incorporates by reference, the analysis in “Expanded Spotted Lanternfly Control Program in Select States in the Midwest, Northeast, and Mid-Atlantic Regions of the United States EA”.¹ In our analysis, APHIS found that an adaptive pest management approach that combines quarantine, chemical treatments, and pest survey is the preferred alternative to address the potential environmental impact of a SLF outbreak.

¹ https://www.aphis.usda.gov/plant_health/ea/2023/regional-slf-2023-ea.pdf.

The ProEA may be viewed on the regulations.gov website or in our reading room (see ADDRESSES above for a link to regulations.gov and information on the location and hours of the reading room). You may also request paper copies of the ProEA by calling or writing to the person listed under FOR FURTHER INFORMATION CONTACT. Please refer to the title of the ProEA when requesting copies.

The ProEA has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Done in Washington, DC, this 31st day of October 2023.
Michael Watson,
Acting Administrator, Animal and Plant Health Inspection Service.

[FR Doc. 2023-24752 Filed 11-8-23; 8:45 am]

BILLING CODE 3410-34-P